DEPARTMENT OF THE INTERIOR

Bureau of Land Management

[WY-010-1430-EU, WYW-156332]

Notice of Realty Direct Sale of Public Lands to the Mary A. Clay Revocable Trust in Washakie County, WY, Worland Field Office, WYW-156332

AGENCY: Bureau of Land Management, Interior.

ACTION: Direct sale of public lands.

SUMMARY: The public surface estate has been determined to be suitable for disposal by direct sale under Section 203 of the Federal Land Policy and Management Act (FLPMA) of 1976, (90 STAT. 2750; 43 U.S.C. 1713) and the Federal Land Transaction Facilitation Act of 2000, Pub. L. 106-248, July 25, 2000, to the Mary A. Clay Revocable Trust, the owner of improvements on the property.

FOR FURTHER INFORMATION CONTACT: Victor Trickey, Realty Specialist, BLM Worland Field Office, P.O. Box 119 (101 South 23rd Street), Worland, WY 82401, (307) 347-5106.

SUPPLEMENTARY INFORMATION: The Bureau of Land Management (BLM) will sell the described land at not less than the appraised fair market value of $1,924.00, in accordance with regulations at 43 CFR 2710.0-6(f).

Sixth Principal Meridian

T. 47 N., R. 87 W.,

Sec. 33, N½SE¼SW¼NW¼NE¼, N½S½SE¼NW¼NE¼

Containing approximately 3.75 acres.

The land described is hereby segregated from appropriation under the public land laws pending disposition of this action or 270 days from the date of publication of this notice in the Federal Register, whichever occurs first.

This land will not be offered for sale until at least 60 days after the date of this notice. This sale is consistent with BLM policies and the Washakie Resource Management Plan, dated September 2, 1988. This land is being offered by direct sale because a portion of a former girl scout visitor center building was located on land reconveyed to the United States, and the encroachment went unnoticed during the reconveyance. The proposed direct sale of the public land to the owners of the improvements, which is in compliance with an approved land use plan, would recognize the inequities that would be created if the tract were purchased by other than the sale proponent. Direct sale to resolve the unintended occupancy meets the criteria for disposal under the regulations at 43 CFR 2710.0-3(a)(3) and 43 CFR 2711.3-3(a)(5). In accordance with the regulations at 43 CFR 2711.3-3(a)(3) there is a need to recognize the inequitable economic consequences that would be created if the tract were purchased by other than the sale proponent. The authorized officer has determined that the public interest would best be served by direct sale of this parcel. The approved appraisal report, planning document, and environmental assessment covering the proposed sale will be available for review at the Worland Field Office, at the address listed above.

The patent, when issued, will contain a reservation to the United States for ditches and canals and will be subject to rights-of-way of record, as follows:

1. A right-of-way thereon for ditches or canals constructed by the authority of the United States pursuant to the Act of August 30, 1890 (43 U.S.C. 945);

2. Those rights for road purposes granted to the Mary A. Clay Revocable Trust, its successors or assigns by Right-of-Way Serial No. WYW-123138, under Title V of the Federal Land Policy and Management Act of 1976, 43 U.S.C. 1761-1771;

3. Those rights for telephone purposes granted to Tri-County Telephone, its successors or assigns by Right-of-Way Serial No. WYW-111951, under Title V of the Federal Land Policy and Management Act of 1976, 43 U.S.C. 1761-1771; and

4. Those rights for Federal aid highway purposes granted to the Wyoming Department of Transportation, its successors or assigns by Right-of-Way Serial No. WYW-23915, under the Act of August 27, 1958 as amended, Title 23 U.S.C. 317. For a period of 45 days from the date of publication of this notice in the Federal Register, interested parties may submit comments to the Field Manager, Worland Field Office, P.O. Box 119 (101 South 23rd Street), Worland, Wyoming 82401. In the absence of timely objections, this proposal shall become the final determination of the Department of the Interior. Comments including names and street addresses of respondents will be available for public review at the Worland Field Office during regular business hours (7:45 a.m. to 4:30 p.m.) Monday through Friday, except holidays.

Individual respondents may request confidentiality. If you wish to withhold your name or address from public disclosure under the Freedom of Information Act, you must state this prominently at the beginning of your comments. Such requests will be honored to the extent allowed by law. All submissions from organizations or businesses, and from individuals identifying themselves as representatives of organizations or businesses, will be made available for public inspection in their entirety.

Dated: August 17, 2005.
Mike Roberts,
Acting Worland Field Manager.

[FR Doc. 05-18610 Filed 9-19-05; 8:45 am]

BILLING CODE 4310-22-P